DEPARTMENT OF HEALTH AND HUMAN SERVICES

Centers for Disease Control and Prevention

[Docket No. CDC-2024-0072]

Advisory Committee on Immunization Practices; Amended Notice of Meeting

AGENCY: Centers for Disease Control and Prevention, Department of Health and Human Services (HHS).

ACTION: Notice.

SUMMARY: In accordance with the Federal Advisory Committee Act, the Centers for Disease Control and Prevention (CDC) announces an amendment to the following meeting of the Advisory Committee on Immunization Practices (ACIP). This meeting was open to the public.

FOR FURTHER INFORMATION CONTACT: Stephanie Thomas, Committee Management Specialist, Advisory Committee on Immunization Practices, National Center for Immunization and Respiratory Diseases, Centers for Disease Control and Prevention, 1600 Clifton Road NE, Mailstop H24-8, Atlanta, Georgia 30329-4027. Telephone: (404) 639-8836; Email: ACIP@cdc.gov.

SUPPLEMENTARY INFORMATION: Notice is hereby given of a change in the meeting of the Advisory Committee on Immunization Practices (ACIP); October 23, 2024, from 8 a.m. to 5:30 p.m., EDT, and October 24, 2024, from 8 a.m. to 5:30 p.m., EDT (times subject to change; see the ACIP website for updates: https://www.cdc.gov/vaccines/acip/index.html), in the original Federal Register notice.

Notice of the virtual meeting was published in the Federal Register on September 30, 2024, 89 FR 79610-79611.

The meeting notice is being amended to update the recommendation votes in the matters to be considered, which should read as follows:

Matters to be Considered: The agenda will include discussions on chikungunya vaccines, COVID-19 vaccines, cytomegalovirus (CMV) vaccine, Human papillomavirus (HPV) vaccines, influenza vaccines, meningococcal vaccines, mpox vaccines, pneumococcal vaccines, Respiratory Syncytial Virus (RSV) vaccines for adults, RSV vaccines for maternal and pediatric populations, and the adult and child/adolescent immunization schedules. Recommendation votes are scheduled for COVID-19 vaccines, meningococcal vaccines, pneumococcal vaccines, and the adult and child/adolescent immunization schedules. A Vaccines for Children (VFC) vote is scheduled for influenza vaccines and meningococcal vaccines. For more information on the meeting agenda, visit https://www.cdc.gov/acip/meetings/index.html.

The Director, Office of Strategic Business Initiatives, Office of the Chief Operating Officer, Centers for Disease Control and Prevention, has been delegated the authority to sign Federal Register notices pertaining to announcements of meetings and other committee management activities, for both the Centers for Disease Control and Prevention and the Agency for Toxic Substances and Disease Registry.

Kalwant Smagh,
Director, Office of Strategic Business Initiatives, Office of the Chief Operating Officer, Centers for Disease Control and Prevention.

[FR Doc. 2024-26000 Filed 11-7-24; 8:45 am]

BILLING CODE 4163-18-P